DEPARTMENT OF ENERGY

Federal Energy Regulatory Commission

[Project No. 2662-012; Project No. 12968-001]

FirstLight Hydro Generating Company, City of Norwich Department of Public Utilities; Notice Updating Procedural Schedule for Licensing

Take notice that the Hydropower Licensing Schedule for the Scotland Hydroelectric Project No. 2662 and Scotland Hydroelectric Project No. 12968 has been updated. Subsequent revisions to the schedule may be made as appropriate.

Milestone | Target date
Filing of Additional Information | May 8, 2011.
Issuance of the Better Adapted Statement Request | May 16, 2011.
Notice of Acceptance/Notice of Ready for Evironmental Analysis | May 16, 2011.
Filing of recommendations, preliminary terms and conditions, and fishway prescriptions | July 15, 2011.
Filing of the Better Adapted Statement | July 15, 2011.
Commission issues EA | November 12, 2011.
Comments on EA | December 12, 2011.
Modified terms and conditions | February 10, 2012.

Dated: March 24, 2011.
Kimberly D. Bose,
Secretary.

[FR Doc. 2011-7681 Filed 3-31-11; 8:45 am]

BILLING CODE 6717-01-P